DEPARTMENT OF AGRICULTURE

Submission for OMB Review; Comment Request

October 7, 2019.

The Department of Agriculture will submit the following information collection requirement(s) to OMB for review and clearance under the Paperwork Reduction Act of 1995, Public Law 104-13 on or after the date of publication of this notice. Comments are requested regarding: Whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology should be addressed to: Desk Officer for Agriculture, Office of Information and Regulatory Affairs, Office of Management and Budget (OMB), New Executive Office Building, Washington, DC; New Executive Office Building, 725—17th Street NW, Washington, DC 20503. Commenters are encouraged to submit their comments to OMB via email to: OIRA_Submission@omb.eop.gov or fax (202) 395-5806 and to Departmental Clearance Office, USDA, OCIO, Mail Stop 7602, Washington, DC 20250-7602.

Comments regarding these information collections are best assured of having their full effect if received by November 12, 2019. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

National Agricultural Statistics Service

Title: Agricultural Resource Management, Chemical Use, and Post-Harvest Chemical Use Surveys.

OMB Control Number: 0535-0218.

Summary of Collection: The primary functions of the National Agricultural Statistics Service (NASS) are to prepare and issue State and national estimates of crop and livestock production, disposition, and prices and to collect information on related environmental and economic factors. Detailed economic and environmental data for various crops and livestock help to maintain a stable economic atmosphere and reduce the risk for production, marketing, and distribution operations. The Agricultural Resource Management Surveys (ARMS), are the primary source of information for the U.S. Department of Agriculture on a broad range of issues related to agricultural resource use, cost of production, and farm sector financial conditions. NASS uses a variety of survey instruments to collect the information in conjunction with these studies. General authority for these data collection activities is granted under U.S. Code Title 7, Section 2204.

Need and Use of the Information: ARMS is the only annual source of whole farm information available for objective evaluation of many critical issues related to agriculture and the rural economy, such as: Whole farm finance data, marketing information, input usage, production practices, and crop substitution possibilities. Without these data, decision makers cannot analyze and report on critical issues that affect farms and farm households when pesticide regulatory actions are being considered.

Description of Respondents: Farms; Business or other for-profit.

Number of Respondents: 131,619.

Frequency of Responses: Reporting: Annually.

Total Burden Hours: 105,774.

Kimble Brown,
Departmental Information Collection Clearance Officer.

[FR Doc. 2019-22171 Filed 10-9-19; 8:45 am]

BILLING CODE 3410-20-P